DEPARTMENT OF DEFENSE

Defense Acquisition Regulations System

48 CFR Parts 212, 227, and 252

[Docket DARS-2016-0017]

RIN 0750-AI95

Defense Federal Acquisition Regulation Supplement: Rights in Technical Data and Validation of Proprietary Data Restrictions (DFARS Case 2012-D022)

AGENCY: Defense Acquisition Regulations System, Department of Defense (DoD).

ACTION: Proposed rule; extension of comment period.

SUMMARY: DoD is proposing to amend the Defense Federal Acquisition Regulation Supplement (DFARS) to implement a section of the National Defense Authorization Act for Fiscal Year 2012 that revises the sections of title 10 of the United States Code (U.S.C.) that address technical data rights and validation of proprietary data restrictions. The comment period on the proposed rule is extended 16 days.

DATES: For the proposed rule published on June 16, 2016 (81 FR 39481), submit comments by September 30, 2016.

ADDRESSES: Submit comments identified by DFARS Case 2012-D022, using any of the following methods:

○ Federal eRulemaking Portal: http://www.regulations.gov. Search for “DFARS Case 2012-D022.” Select “Comment Now” and follow the instructions provided to submit a comment. Please include “DFARS Case 2012-D022” on any attached documents.

○ Email: osd.dfars@mail.mil. Include DFARS Case 2012-D022 in the subject line of the message.

○ Fax: 571-372-6094.

○ Mail: Defense Acquisition Regulations System, Attn: Ms. Amy Williams, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Amy G. Williams, telephone 571-372-6106.

SUPPLEMENTARY INFORMATION:

I. Background

On June 16, 2016, DoD published a proposed rule in the Federal Register at 81 FR 39481 to implement section 815 of the National Defense Authorization Act (NDAA) for Fiscal Year (FY) 2012, which—

• Adds special provisions for handling technical data that are necessary for segregation and reintegration activities;

• Codifies and revises the policies and procedures regarding deferred ordering of technical data necessary to support DoD major systems or subsystems, weapon systems, or noncommercial items or processes;

• Expands the period in which DoD can challenge an asserted restriction on technical data from 3 years to 6 years;

• Rescinds changes to 10 U.S.C. 2320 from the NDAA for FY 2011; and

• Codifies Government purpose rights as the default rights for technical data related to technology developed with mixed funding.

The comment period for the proposed rule is extended 16 days, from September 14, 2016 to September 30, 2016, to provide additional time for interested parties to comment on the proposed DFARS changes.

List of Subjects in 48 CFR Parts 212, 227, and 252

Government procurement.

Jennifer L. Hawes,
Editor, Defense Acquisition Regulations System.

[FR Doc. 2016-21463 Filed 9-6-16; 8:45 am]

BILLING CODE 5001-06-P